DEPARTMENT OF HEALTH AND HUMAN SERVICES

Administration for Children and Families

Notice of Meeting; National Commission on Children and Disasters

AGENCY: Administration for Children and Families, Department of Health and Human Services.

ACTION: Notice of meeting.

DATES: The meeting will be held on Thursday, June 25, 2009, from 9 a.m. to 5:30 p.m.

ADDRESSES: The meeting will be held at the Henry J. Kaiser Family Foundation Public Affairs Center, 1330 G Street, NW., Washington, DC. To attend either in person or via teleconference, please register by 5 p.m. Eastern Time, June 22, 2009. To register, please visit http://thenationalacad.disastersroundtable.sgizmo.com; for information on options for remote meeting participation, or if you experience technical difficulties, please contact Brianna Cash at dr@nas.edu or (202) 334-2402. If you require a sign language interpreter or other special assistance, please call Jacqueline Haye at (202) 205-9560 as soon as possible and no later than 5 p.m. Eastern Time, June 11, 2009.

Agenda: The National Commission on Children and Disasters and the National Academy of Sciences will co-host a workshop entitled “Children and Youth in Disasters: Closing Gaps among Research, Practice and Policy.” Presentations and expert panel discussions will: (1) Illuminate pressing issues related to disaster preparedness and response for children and youth and opportunities to reduce their vulnerability and increase resiliency in disasters; (2) identify and enhance opportunities to strengthen connections among researchers, practitioners and policy makers related to children and youth in disasters; (3) discuss concrete ideas and actionable suggestions from multiple perspectives to apply to policy work in this field; and (4) identify practical approaches on how the country can better prepare to respond to children's needs in disasters.

Additional Information: Contacts: Brianna Cash, The National Academies, at dr@nas.edu or (202) 334-2402; Vinicia Mascarenhas, National Commission on Children and Disasters, at vinicia.mascarenhas@acf.hhs.gov or (202) 401-9392.

SUPPLEMENTARY INFORMATION: The National Commission on Children and Disasters is an independent Commission that shall conduct a comprehensive study to examine and assess the needs of children as they relate to preparation for, response to, and recovery from all hazards, building upon the evaluations of other entities and avoiding unnecessary duplication by reviewing the findings, conclusions, and recommendations of these entities. The Commission shall then submit a report to the President and the Congress on the Commission's independent and specific findings, conclusions, and recommendations to address the needs of children as they relate to preparation for, response to, and recovery from all hazards, including major disasters and emergencies.

The National Academy of Sciences is an honorific society of distinguished scholars engaged in scientific and engineering research, dedicated to the furtherance of science and technology and to their use for the general welfare.

Dated: June 3, 2009.
Curtis L. Coy,
Acting Assistant Secretary for Children and Families.

[FR Doc. E9-13418 Filed 6-8-09; 8:45 am]

BILLING CODE 4184-01-P